DEPARTMENT OF HEALTH AND HUMAN SERVICES

Health Resources and Services Administration

Agency Information Collection Activities: Proposed Collection: Public Comment Request

AGENCY: Health Resources and Services Administration.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on the Information Collection Request must be received no later than June 9, 2015.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Providing Primary Care and Preventative Medical Services in Ryan White-funded Medical Care Settings: OMB No. 0915-xxxx—New.

Abstract: Since Congress passed the Ryan White Comprehensive AIDS Resource Emergency (CARE) Act in 1990, the Ryan White HIV/AIDS Program (Ryan White Program) has funded the provision of care eligible to persons living with HIV (PLWH). Many Ryan White-funded clinics have long promoted the medical home model, which involves the provision of comprehensive and coordinated care services, including prevention and other non-medical care services to promote access and adherence to HIV/AIDS treatment. As PLWH live longer and normal lives with effective antiretroviral treatment, this model has become more complex. In recent years, clinics providing care to PLWH are also seeing their patients develop other common chronic diseases such as diabetes, heart disease, and hypertension associated with normal and aging populations. Guidelines ¹ on primary care for PLWH have recently been released to help providers navigate the integration of primary and preventative care into HIV care. With already limited budgets, staffing and other resources, Ryan White-funded clinics may struggle to provide primary and preventative care services in-house or have insufficient referral systems. However, under the Affordable Care Act, most PLWH can obtain more affordable health insurance which can alleviate some burden on clinics and improve accessibility to primary and preventative care services.

¹ JA Aberg, JE Gallant, KG Ghanem, P Emmanuel, BS Zingman and MA Horberg. Primary Care Guidelines for the Management of Persons Infected with HIV: 2013 Update by the HIV Medicine Association of the Infectious Disease Society of America; CID 201_58 (January 1, 2014). New York State Department of Health AIDS Institute, Office of the Medical Director. Primary Care Approach to the HIV-infected Patient; http://www.hivguidelines.org/clinical-guidelines/adults/primary-care-approach-to-the-hiv-infected-patinet/ (Updated November 2014).

This study will examine how Ryan White-funded clinics are integrating the provision of primary and preventative care services to the overall HIV care model. Specifically, it will look at the protocols and strategies used by clinics to manage care for PLWH, specifically care coordination, referral systems, and patient-centered strategies to keep PLWH in care.

Need and Proposed Use of the Information: The proposed study will provide the HRSA HIV/AIDS Bureau (HAB) and policymakers with a better understanding of how the Ryan White Program currently provides primary and preventative care to PLWH. The first online survey will be targeted to clinic directors from a sample of about 160 Ryan White-funded clinics and will collect data on care models used; primary care services, including preventative services; and coordination of care. Data collected from this survey will provide a general overview of the various HIV care models used as well as insight to possible facilitators and barriers to providing primary and preventative care services. More in-depth data collection will be conducted with a smaller number of 30 clinics representing clinic type (publicly funded community health organization, other community-based organization, health department, and hospital or university-based) and size. There will be three data collection instruments used: (1) An online survey completed by three clinicians at each of the clinics (clinician survey); (2) a data extraction of select primary and preventative care services; and (3) a telephone interview with the medical director. The clinician survey will provide a more in-depth look at the clinic protocols and strategies and how they are being used and implemented by the clinicians. The data extraction will provide quantitative information on the provision of select primary and preventative care services within a certain time period. With these data, the study team can assess the accuracy of information provided in the online surveys on the provision of care as well as the frequency at which primary and preventative care screenings are provided. Lastly, the interviews with the medical director will allow the study team to follow-up on the results of the clinician survey and data extraction and collect qualitative data and more in-depth details on the provision of primary and preventative care services from a clinic wide perspective, specifically any facilitators and barriers.

These data will provide HAB the background to make informed policies and changes to the Ryan White Program in this new era when the well-being of PLWH demands a more complex and long-term HIV care model.

Likely Respondents: Clinics funded by the Ryan White Program.

Burden Statement: Burden in this context means the time expanded by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours
Form name | Number of respondents | Number of responses per respondent | Total responses | Average burden per response (in hours) | Total burden hours
Clinic Director of Online Survey | 130 | 1 | 130 | 1 | 130
Clinician Online Survey | 30 | 1 | 30 | 1 | 30
Data Extraction | 30 | 1 | 30 | 3 | 90
Medical Director Interview | 30 | 1 | 30 | 1 | 30
Total | 220 |  | 220 | 6 | 280

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jackie Painter,
Director, Division of the Executive Secretariat.

[FR Doc. 2015-08284 Filed 4-9-15; 8:45 am]

BILLING CODE 4165-15-P